DEPARTMENT OF THE INTERIOR

Fish and Wildlife Service

[FWS-R4-R-2008-N0004; 40136-1265-0000-S3]

J.N. “Ding” Darling National Wildlife Refuge, Lee County, FL

AGENCY: Fish and Wildlife Service, Interior.

ACTION: Notice of intent to prepare a comprehensive conservation plan and environmental assessment; request for comments; re-opening of comment period.

SUMMARY: We, the U.S. Fish and Wildlife Service (Service), intend to prepare a comprehensive conservation plan (CCP) and associated National Environmental Policy Act (NEPA) documents for J.N. “Ding” Darling National Wildlife Refuge. We provide this notice in compliance with our CCP policy to advise other agencies, Tribes, and the public of our intentions, and to obtain suggestions and information on the scope of issues to consider in the planning process. We reopen the comment period, which originally ended on August 13, 2007, as announced in the Federal Register on June 27, 2007 (72 FR 35254). If you have already submitted comments, you are not required to resubmit them.

DATES: To ensure consideration, we must receive your written comments by May 19, 2008.

ADDRESSES: Comments, questions, and requests for more information regarding the J.N. “Ding” Darling National Wildlife Refuge planning process should be sent to: Laura Housh, Regional Planner, Okefenokee National Wildlife Refuge, Route 2, Box 3330, Folkston, GA 31537.

FOR FURTHER INFORMATION CONTACT: Laura Housh; Telephone: 912/496-7366, Extension 244; Fax: 912/496-3332.

SUPPLEMENTARY INFORMATION:

Introduction

With this notice, we re-open the comment period and initiate our process for developing a CCP for J.N. “Ding” Darling National Wildlife Refuge in Lee County, FL. This notice complies with our CCP policy to (1) advise other Federal and State agencies, Tribes, and the public of our intention to conduct detailed planning on this refuge, and (2) obtain suggestions and information on the scope of issues to consider in the environmental document and during development of the CCP.

Background

The CCP Process

The National Wildlife Refuge System Improvement Act of 1997 (16 U.S.C. 668dd-668ee), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Congress established each unit of the National Wildlife Refuge System for specific purposes. We use these purposes as the foundation for developing and prioritizing the management goals and objectives for the refuge within the National Wildlife Refuge System mission, and to determine how the public can use the refuge. The planning process is a way for us and the public to evaluate management goals and objectives for the best possible conservation approach to this important wildlife habitat, while providing for wildlife-dependent recreation opportunities that are compatible with each refuge's establishing purposes and the mission of the National Wildlife Refuge System.

Our CCP process provides participation opportunities for Tribal, State, and local governments; agencies; organizations; and the public. At this time we encourage input in the form of issues, concerns, ideas, and suggestions for the future management of J.N. “Ding” Darling National Wildlife Refuge.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

Special mailings, newspaper articles, and other media announcements will be used to inform State and local government agencies and the public of the opportunities for input throughout the planning process. Open house meeting(s) will be scheduled and held throughout the scoping phase of the comprehensive conservation planning process.

J.N. “Ding” Darling National Wildlife Refuge

J.N. “Ding” Darling National Wildlife Refuge was originally established as the Sanibel National Wildlife Refuge in 1945. The refuge was originally established “for use as an inviolate sanctuary, or for any other management purposes, for migratory birds, and suitable for incidental fish and wildlife-oriented recreational development, the protection of natural resources, and the conservation of threatened and endangered species.” In 1967, the refuge was renamed in honor of Jay Norwood “Ding” Darling and now consists of 6,300 acres of mangrove estuaries, freshwater spartina wetlands, and tropical hardwood hammocks. In 1976, Public Law 94-557 approved 2,825 acres of the refuge as a Wilderness Area.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: February 8, 2008.
Cynthia K. Dohner,
Acting Regional Director.

[FR Doc. E8-6790 Filed 4-1-08; 8:45 am]

BILLING CODE 4310-55-P